Memorandum of January 20, 2025

Hiring Freeze

Memorandum for the Heads of Executive Departments and Agencies

By the authority vested in me as President by the Constitution and the laws of the United States of America, I hereby order a freeze on the hiring of Federal civilian employees, to be applied throughout the executive branch. As part of this freeze, no Federal civilian position that is vacant at noon on January 20, 2025, may be filled, and no new position may be created except as otherwise provided for in this memorandum or other applicable law. Except as provided below, this freeze applies to all executive departments and agencies regardless of their sources of operational and programmatic funding.

This order does not apply to military personnel of the armed forces or to positions related to immigration enforcement, national security, or public safety. Moreover, nothing in this memorandum shall adversely impact the provision of Social Security, Medicare, or Veterans' benefits. In addition, the Director of the Office of Personnel Management (OPM) may grant exemptions from this freeze where those exemptions are otherwise necessary.

Within 90 days of the date of this memorandum, the Director of the Office of Management and Budget (OMB), in consultation with the Director of OPM and the Administrator of the United States DOGE Service (USDS), shall submit a plan to reduce the size of the Federal Government's workforce through efficiency improvements and attrition. Upon issuance of the OMB plan, this memorandum shall expire for all executive departments and agencies, with the exception of the Internal Revenue Service (IRS). This memorandum shall remain in effect for the IRS until the Secretary of the Treasury, in consultation with the Director of OMB and the Administrator of USDS, determines that it is in the national interest to lift the freeze.

Contracting outside the Federal Government to circumvent the intent of this memorandum is prohibited.

In carrying out this memorandum, the heads of executive departments and agencies shall seek efficient use of existing personnel and funds to improve public services and the delivery of these services. Accordingly, this memorandum does not prohibit making reallocations to meet the highest priority needs, maintain essential services, and protect national security, homeland security, and public safety.

This memorandum does not limit the nomination and appointment of officials to positions requiring Presidential appointment or Senate confirmation, the appointment of officials to non-career positions in the Senior Executive Service or to Schedule A or C positions in the Excepted Service, the appointment of officials through temporary organization hiring authority pursuant to section 3161 of title 5, United States Code, or the appointment of any other non-career employees or officials if approved by agency leadership appointed by the President. Moreover, it does not limit the hiring of personnel where such a limit would conflict with applicable law.

This memorandum does not abrogate any collective bargaining agreement in effect on the date of this memorandum.

THE WHITE HOUSE,

Washington, January 20, 2025

[FR Doc. 2025-01905

Filed 1-27-25; 8:45 am]

Billing code 3395-F4-P